DEPARTMENT OF COMMERCE

United States Patent and Trademark Office

RIN 0651-AB25

Reopening of the Time Period for Acceptance of Comments on Preliminary Draft Convention on Jurisdiction and Foreign Judgments in Civil and Commercial Matters

AGENCY: U.S. Patent and Trademark Office, Commerce.

ACTION: Reopening of time period for acceptance of comments.

SUMMARY: On Tuesday, October 17, 2000, the United States Patent and Trademark Office published a notice seeking comments on a convention being negotiated by the Hague Conference on Private International Law that is designed to create common jurisdictional rules for international recognition and enforcement of judgments issued under these rules (65 F.R. 61306 (2000)). Interested members of the public were invited to present written comments on the topics outlined in the Issues for Public Comment section of the Notice by December 1, 2000. This notice reopens the time period for submission of comments. Comments will be accepted through January 12, 2001.

EFFECTIVE DATE: All comments are due by January 12, 2001.

ADDRESSES: Persons wishing to offer written comments should address those comments to Director of the United States Patent and Trademark Office, Box 4, United States Patent and Trademark Office, Washington, DC 20231, marked to the attention of Elizabeth Shaw. Comments may also be submitted by facsimile transmission to (703) 305-7575 or by electronic mail through the Internet to elizabeth.shaw2@uspto.gov. All comments will be maintained for public inspection in Room 902 of Crystal Park II, 2121 Crystal Drive, Arlington, Virginia.

FOR FURTHER INFORMATION CONTACT: Jennifer Lucas by telephone at (703) 305-9300; by facsimile at (703) 305-8885; by electronic mail at jennifer.lucas@uspto.gov; or by mail marked to the attention of Jennifer Lucas, Attorney-Advisor, addressed to Director of the United States Patent and Trademark Office, Box 4, Washington, DC 20231.

Dated: December 5, 2000.
Albin F. Drost,
Acting General Counsel.

[FR Doc. 00-31355 Filed 12-8-00; 8:45 am]

BILLING CODE 3510-16-U